DEPARTMENT OF THE INTERIOR

Bureau of Land Management

[NV-056-1430-EU; N-77540]

Notice of Realty Action: Non-Competitive Sale of Reversionary Interest, Portion of Recreation and Public Purposes Patent Number 27-83-0052

AGENCY: Bureau of Land Management, Interior.

ACTION: Notice of Realty Action.

SUMMARY: The following described land in Clark County, Nevada, has been examined and found suitable for direct sale under section 203 of the Federal Land Policy and Management Act of 1976 (Pub. L. 94-579, as amended; 43 CFR 2711.3-3).

FOR FURTHER INFORMATION CONTACT: Anna Wharton, Supervisory Realty Specialist, (702) 515-5095.

SUPPLEMENTARY INFORMATION: The following described land in Clark County, Nevada, was patented to the State of Nevada, Division of State Lands, pursuant to the Act of Congress of June 14, 1926 (44 Stat. 741, as amended; 43 U.S.C. 869), on July 20, 1983 for a prison (N-25221-02).

Mount Diablo Meridian, Nevada,

T. 16 S., 57 E.,

Sec. 33, lots 1 to 12, inclusive, N½.

Containing 687.09 acres, more or less.

The patent contains a reversionary interest to the United States. The State of Nevada requests the purchase of the reversionary interest at not less than the fair market value of $124,000, as determined by a BLM-approved appraisal for a portion of the patented land, on the following described land. These lands were also previously segregated from mineral entry under case file number N-61968FD, with record notation as of October 1, 1997. This segregation on the following described land will terminate upon publication of this Notice of Realty Action.

Mount Diablo Meridian, Nevada,

T. 16 S., R. 57 E.,

Sec. 33, W½SW¼NE¼NW¼, SE¼NW¼NW¼, N½NE¼SW¼NW¼, NW¼NW¼SE¼NW¼.

Containing 22.5 acres, more or less.

The Federal interest has been examined and found suitable for sale under the provisions of section 203 of the Federal Land Policy and Management Act of 1976 (P.L. 94-579, as amended; 43 CFR 2711.3-3).

Direct sale procedures to the State of Nevada are considered appropriate, in this case, as the land described above was patented to the State of Nevada, and transfer of the Federal interest to any other entity would not protect existing equities in the land. The direct sale is consistent with the current Bureau planning for this area and would be in the public interest. The land is not required for any Federal purpose. The patent will be subject to the provisions of the Federal Land Policy and Management Act and applicable regulations of the Secretary of the Interior and the land will continue to be subject to the following reservations to the United States:

1. A right-of-way thereon for ditches or canals constructed by the authority of the United States, Act of August 30, 1890 (26 Stat. 391, 43 U.S.C. 945).

2. All minerals shall be reserved to the United States, together with the right to prospect for, mine and remove such deposits from the same under applicable law and such regulations as the Secretary of the Interior may prescribe.

Detailed information concerning this action, including the approved appraisal report, is available for review at the Las Vegas Field Office, Bureau of Land Management, 4701 N. Torrey Pines Dr., Las Vegas, Nevada 89130.

For a period until March 26, 2004, interested parties may submit comments to the Field Manager, Las Vegas Field Office, at the above address.

Application Comments

Interested parties may submit comments regarding whether the BLM followed proper administrative procedures in reaching the decision or any other factor not directly related to the suitability of the land for a direct sale. Any adverse comments will be reviewed by the State Director.

In the absence of any adverse comments, the decision will become effective April 12, 2004. The lands will not be offered for conveyance until after the decision becomes effective.

Dated: October 24, 2003.
John C. Jamrog,
Acting Field Manager, Las Vegas, NV.

[FR Doc. 04-2758 Filed 2-9-04; 8:45 am]

BILLING CODE 4310-HC-P